NATIONAL CREDIT UNION ADMINISTRATION

12 CFR Part 741

RIN 3133-AD66

Interest Rate Risk Policy and Program

Correction

In rule document 2012-02091, appearing on pages 55155-5167 in the issue of Thursday, February 2, 2012, make the following corrections:

1. On page 5157, in the second column, in the first line, the text entry “by asset size cohort at year-end 2010, as depicted in Table 1:” is deleted.

2. On page 5164, in the second column, under the heading “Account Attributes” on the second line, “P\principal” should read “Principal”.

[FR Doc. C1-2012-2091 Filed 9-18-12; 8:45 am]

BILLING CODE 1505-01-D